DEPARTMENT OF TRANSPORTATION

Federal Aviation Administration

14 CFR Part 71

[Docket No. FA-2004-17427; Airspace Docket No. 04-ACE-27]

Modification of Class E Airspace; Oshkosh, NE

AGENCY: Federal Aviation Administration (FAA), DOT.

ACTION: Direct final rule; request for comments; correction.

SUMMARY: This action corrects a direct final rule; request for comments that was publised in the Federal Register on Tuesday, May 11, 2004, (69 FR 26029) [FR Doc. 04-10636]. It corrects an error in the legal description.

DATES: This direct final rule is effective on 0901 UTC, August 5, 2004.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register document 04-10636, published on Tuesday, May 11, 2004, (69 FR 26029) modified Class E airspace areas at Oshkosh, NE. The modification corrected discrepancies in the dimensions controlled airspace for diverse departures from Garden County Airport, expanded the area by .5 mile, corrected errors in the location of the Oshkosh, NE nondirectional radio beacon used in the legal description, redefined the extension to the airspace area and brought the legal description of the Oshkosh, NE Class E airspace area into compliance with FAA Order 7400.2E, Procedures for Handling Airspace Matters. However, the line in the legal description identifying the airport was not in the correct format.

Accordingly, pursuant to the authority delegated to me, the legal description of Oshkosh, NE Class E airspace, as publised in the Federal Register on Tuesday, May 11, 2004, (69 FR 26029) [FR Doc. 04-10636] is corrected as follows:

PART 71—[AMENDED]

§ 71.1 [Corrected]

On page 26030, Column 2, third paragraph, second line, change “Garden County Airport, NE” to read “Oshkosh, Garden County Airport, NE”.

Issued in Kansas City, MO, on May 13, 2004.
Paul J. Sheridan,
Acting Manager, Air Traffic Division, Central Region.

[FR Doc. 04-11787 Filed 5-24-04; 8:45 am]

BILLING CODE 4910-13-M